DEPARTMENT OF AGRICULTURE

Rural Business-Cooperative Service

Announcement of Value-Added Producer Grant Application Deadlines

AGENCY: Rural Business-Cooperative Service, USDA.

ACTION: Notice of Funding Availability (NOFA).

SUMMARY: Pursuant to 7 CFR part 4284, subpart J, the Rural Business-Cooperative Service (RBS) announces the availability of approximately $37 million in competitive grant funds for Fiscal Year (FY) 2011 to help independent agricultural producers enter into value-added activities. This Notice of Funding Availability (NOFA) announces $19.3 million provided under the Agriculture, Rural Development, Food and Drug Administration and Related Agencies Appropriations Act of 2010 (Pub. L. 111-80), and $17.9 million from the Department of Defense and Full-Year Continuing Appropriations Act of 2011 (Pub. L.112-20).

Awards may be made for planning activities or for working capital expenses, but not for both. The maximum grant amount for a planning grant is $100,000 and the maximum grant amount for a working capital grant is $300,000. Rural Development is encouraging applications that will support communities in urban or rural areas, with limited access to healthy foods and with a high poverty and hunger rate.

Ten percent of available funds are reserved to fund applications submitted by Beginning Farmers or Ranchers and Socially Disadvantaged Farmers or Ranchers as defined at 7 CFR 4284.902. An additional 10 percent of available funds are reserved to fund Mid-Tier Value Chain projects (both collectively referred to as “reserved funds”). Grants made to Majority Controlled Producer-Based Business Ventures may not exceed 10 percent of the total funds obligated for the program in the fiscal year.

DATES: Application deadlines. Completed paper applications, for both unreserved funds or reserved funds, must be postmarked and mailed, shipped, or sent overnight no later than August 29, 2011 to be eligible for FY 2011 grant funding. Late applications are not eligible for FY 2011 grant funding.

Completed electronic applications, for both unreserved funds and reserved funds, must be received by Midnight Eastern Time August 29, 2011 to be eligible for FY 2011 grant funding. Late applications are not eligible for FY 2011 grant funding.

Preliminary review deadline. Applicants may seek a preliminary review of their application for eligibility and completeness. Applications submitted for preliminary review must be received 30 days prior to the application deadline. Any complete application received after 30 days prior to the application deadline will be considered a final application under this Notice for review, scoring, and consideration for selection for award.

ADDRESSES: Submit paper applications to the Rural Development State Office for the State in which the Project will primarily take place. Addresses may be found at: http://www.rurdev.usda.gov/recd_map.html.

Submit electronic applications at http://www.grants.gov, following the instructions found on this Web site.

FOR FURTHER INFORMATION CONTACT: Applicants should visit the program Web site at http://www.rurdev.usda.gov/BCP_VAPG_Grants.html which contains application guidance. Applicants can also contact their USDA Rural Development State Office by calling 800-670-6553 and pressing “1.” Applicants are encouraged to contact their State Offices well in advance of the deadline to discuss their projects and ask any questions about the application process.

Applicants may also contact Lyn Millhiser at 202-720-1227 or Tracey Kennedy at 202-690-1428, or by e-mailing cpgrants@wdc.usda.gov for additional information.

Applicants seeking preliminary review of their applications may submit drafts to their State office in accordance with the aforementioned “Preliminary review deadline.” The preliminary review will only assess the eligibility of the application and its completeness. The results of the preliminary review are not binding on the Agency.

SUPPLEMENTARY INFORMATION:

Paperwork Reduction Act

In accordance with the Paperwork Reduction Act, the paperwork burden associated with this Notice has been approved by the Office of Management and Budget (OMB) under OMB Control Number 0570-0064.

Producers seeking funding under this Notice have to submit applications that include specified information, certifications, and agreements. All of the forms, information, certifications, and agreements required to apply for grants under this Notice have been authorized under OMB Control Number 0570-0064.

Overview

Federal Agency Name: Rural Business-Cooperative Service.

Funding Opportunity Title: Value-Added Producer Grants.

Announcement Type: Initial announcement.

Catalog of Federal Domestic Assistance Number: 10.352.

Dates: Completed paper applications, for both unreserved funds or reserved funds, must be postmarked and mailed, shipped, or sent overnight no later than August 29, 2011 to be eligible for FY 2011 grant funding. Late applications are not eligible for FY 2011 grant funding.

All completed electronic applications, for both unreserved funds or reserved funds, must be received by Midnight Eastern Time August 29, 2011 to be eligible for FY 2011 grant funding. Late applications are not eligible for FY 2011 grant funding.

Availability of Notice. This Notice is available on the USDA Rural Development Web site at http://www.rurdev.usda.gov/BCP_VAPG_Grants.html.

I. Funding Opportunity Description

A. Purpose of the Program

The primary objective of this grant program is to help Independent Producers of Agricultural Commodities, Agriculture Producer Groups, Farmer and Rancher Cooperatives, and Majority-Controlled Producer-Based Business Ventures develop strategies to create marketing opportunities and to help develop Business Plans for viable marketing opportunities regarding production of bio-based products from agricultural commodities. Cooperative Programs will competitively award funds for Planning Grants and Working Capital Grants directly related to the processing and/or marketing of value-added products. In order to provide program benefits to as many eligible applicants as possible, applicants may apply only for a Planning Grant or for a Working Capital Grant, but not both. Grants will only be awarded if Projects are determined to be economically viable and sustainable.

As with all value-added efforts, generating new products, creating expanded marketing opportunities and increasing producer income are the end goals.

Please note that businesses of all sizes may apply, but priority will be given to Operators of Small and Medium-Sized Farms or Ranches that are structured as Family Farms, Beginning Farmers or Ranchers, Socially-Disadvantaged Farmers and Ranchers, Mid-Tier Value Chain projects, and Farmer or Rancher Cooperatives. There is no restriction on the minimum grant size that will be awarded. In FY 2010, 41 percent of awards were $50,000 or less.

B. Statutory Authority

This solicitation is issued pursuant to section 231 of the Agriculture Risk Protection Act of 2000 (Pub. L. 106-224) as amended by section 6202 of the Food, Conservation, and Energy Act of 2008 (Pub. L. 110-246) (see 7 U.S.C. 1621 note)) authorizing the establishment of the Value-Added Agricultural Product Market Development grants, also known as Value-Added Producer Grants. The regulations are contained in 7 CFR part 4284, subpart J and are incorporated by reference in this notice. The Secretary of Agriculture has delegated the program's administration to USDA Rural Development Cooperative Programs.

C. Definition of Terms

The definitions applicable to this Notice are published at 7 CFR 4284.902. If a term is defined differently in the Departmental Regulations (7 CFR series 3000-3099), 2 CFR part 230, 48 CFR 31.2, or 2 CFR parts 25, 170 or 417, than in this subpart, such term shall have the meaning as found in 7 CFR 4284.902.

II. Award Information

A. Available funds. In FY 2011, approximately $37 million is being announced from appropriations provided in 2010 and 2011 . Funding made available under this NOFA is funding that was provided under the Agriculture, Rural Development, Food and Drug Administration and Related Agencies Appropriations Act of 2010 (Pub. L. 111-80) and under the Department of Defense and Full-Year Continuing Appropriations Act, 2011 (Pub. L.112-20).

B. Type of instrument. Grant.

C. Approximate number of awards. 250.

D. Approximate Average Award. $116,000.

E. Range of Awards. There is no minimum award. The maximum amount of grant funds provided to a grant recipient under this Notice is $100,000 for planning grants and $300,000 for Working Capital grants.

F. Anticipated Award Date. November 30, 2011.

G. Project Period Length: The maximum term of a grant project period is 3 years from date of award. Grant project periods should be scaled to the complexity of the objectives of the project.

III. Eligibility Information

A. Eligible Applicants

To be eligible for this program, an applicant must meet the eligibility requirements specified in 7 CFR 4284.920. Applicants will be ineligible according to he requirements specified in 7 CFR 4284.921.

B. Project Eligibility

To be eligible for this program, a project must meet the product and purpose eligibility requirements specified in 7 CFR 4284.922, including Agency concurrence in the financial feasibility of the project or business to achieve the income, credit, and cash flows to financially sustain the venture over the long term, based upon the adequacy of the feasibility study and/or business plan submitted with the application that is required for working capital projects; or the quality of the evidence for project success provided in applications that qualify for a waiver of the feasibility study and/or business plan submission. If the applicant elects to compete for reserved funds, the requirements specified in 7 CFR 4284.922(c) also apply. It is the Agency's position that harvester operations do not meet the definition requirements for a Farm or Ranch and are not eligible to receive Reserved Funds for a Beginning Farmer or Rancher or a Socially Disadvantaged Farmer or Rancher. Harvester operations may compete for Reserved Funds for a Mid-Tier Value Chain project, as applicable. Applications that propose ineligible expenses in excess of 10 percent of total project costs will be deemed ineligible to compete for funds. Eligible applications containing ineligible expenses of less than 10 percent of total project costs that are selected for award must eliminate those ineligible expenses from the project budget.

C. Other Eligibility Requirements

Applicants must comply with all other eligibility requirements found in 7 CFR part 4284, subpart J.

Active VAPG grant. If an applicant has an active value-added grant and seeks to submit an application under this Notice, the currently active grant must be closed out no later than 90 days after submission deadline.

Multiple VAPG grants. In accord with 7 CFR 4284.920(e), applicants may not submit multiple grant requests, including separate entities with identical or greater than 75 percent common ownership, and in cases where an applicant is requesting an additional planning or working capital grant for a project that has already received a planning or working capital grant. If multiple grants are submitted, all such applications will be deemed ineligible to compete for Federal grant funds.

Grant Period Eligibility: Applicants may propose a timeframe for the grant project up to a maximum 36 months in length from the grant period date of award. The grant period will begin on the date of award and projects must begin within 90 days of award date. However, awards are not expected to be made until November 30, 2011, so applicants should propose a date after November 30, 2011 to begin their projects. Projects should end not later than 36 months from the grant period date of award . Applications that request funds for a time period beginning prior to November 30, 2011 and/or ending later than 36 months from the grant period date of award will be considered ineligible. The Agency will consider requests for an extension on a case-by-case basis if extenuating circumstances prevent a grantee from completing an award within the approved grant period, but no extensions can be approved to extend the grant period beyond a total of three years from the grant period date of award.

Priority. An applicant may apply for priority points if they propose a project that contributes to increasing opportunities for beginning farmers or ranchers, socially disadvantaged farmer or ranchers, or if they are an Operator of a small- or medium-sized farm or ranch that is structured as a family farm, or are a farmer or rancher Cooperative, or if they propose a Mid-Tier value chain project. To be eligible for these priority points, the requirements specified in 7 CFR 4284.922(d) must be met, as applicable. It is the Agency's position that harvester operations do not meet the definition requirements for a Farm or Ranch and are not eligible to receive priority points for a Beginning Farmer or Rancher, a Socially Disadvantaged Farmer or Rancher, an Operator of a small- or medium-sized farm or ranch that is structured as a Family Farm, or a Farmer or Rancher Cooperative. Harvester operations may request priority points for a Mid-Tier Value Chain project, as applicable.

IV. Fiscal Year 2011 Application and Submission Information

A. Address to Request Applications

The application package, including an application guide and other materials for applying on paper for this funding opportunity, can be obtained at http://www.rurdev.usda.gov/BCP_VAPG_Grants.html. Alternatively, applicants can contact their USDA Rural Development State Office by calling 800-670-6553 and pressing “1.”

To obtain electronic applications, applicants must visit http://www.grants.gov and follow the instructions.

B. Content and Form of Submission

All applications must contain the information specified in 7 CFR 4284.931.

Applications may be submitted in paper copy, or electronically only via grants.gov. If submitted as a paper copy, only one original copy should be submitted. An application submission must contain all required components in their entirety. E-mailed or faxed submissions will not be acknowledged, accepted or processed by the Agency.

In accordance with 2 CFR part 25, to apply for Federal grant funding, all applicants must have a Dun and Bradstreet Data Universal Numbering System (DUNS) number, which can be obtained at no cost via a toll-free request line at 1-866-705-5711 or online at http://www.dnb.com/us. Similarly, 2 CFR part 25 requires that all applicants maintain registration in the Central Contractor Registration (CCR) database. Applicants must register for the CCR at http://www.ccr.gov, and may call the toll-free technical assistance line at 1-866-606-8220 and press “1” for CCR.

All recipients of Federal financial assistance are required to report information about first-tier subawards and executive compensation in accordance with 2 CFR part 170.

C. Simplified Applications

All four applicant types requesting less than $50,000 working capital grant funds may submit a simplified application in accordance with 7 CFR 4284.932. These applicants are not required to provide feasibility studies or business plans, but must provide information to demonstrate the expected increases in customer base and revenues resulting from the project that will benefit the producer applicants supplying the majority of the agricultural commodity for the project. See 7 CFR 4284.922(b)(6)(ii).

In addition, Independent Producer applicants seeking working capital grants of $50,000 or more, who can demonstrate that they are proposing market expansion for an existing value-added product(s) that they currently own and produce from at least 50 percent of their own agricultural commodity and that they have produced and marketed for at least 2 years at time of application submission, may submit a business or marketing plan for the value-added project in lieu of a feasibility study. These simplified applications must still document for increased customer base and increased revenues returning to the applicant producers as a result of the project. See 7 CFR 4284.922(b)(6)(i).

D. Submission Dates and Times

Complete paper applications, for both unreserved funds or reserved funds, must be postmarked and mailed, shipped, or sent overnight no later than August 29, 2011 to be eligible for FY 2011 grant funding. Late applications are not eligible for FY 2011 grant funding.

All complete electronic applications, for both unreserved funds and reserved funds, must be received by Midnight Eastern Time August 29, 2011 to be eligible for FY 2011 grant funding. Late applications are not eligible for FY 2011 grant funding.

E. Incomplete Applications

Incomplete applications will be rejected. The Agency will notify applicants as to the elements that made the application incomplete. If the Agency receives a resubmitted electronic application by Midnight Eastern Time August 29, 2011, the Agency will reconsider the application. If the Agency receives a paper application that is delivered or postmarked by August 29, 2011, the Agency will reconsider the application.

F. Funding Restrictions

Funding limitations and reservations will apply in accordance with 7 CFR 4284.925

Matching funds. Grant funds may be used to pay up to 50 percent of the total eligible project costs, subject to the limitations established for maximum total grant amount. Applicants must certify the availability and source-verify all matching funds at time of application submission. The source and use of both grant and matching funds may not include a Conflict of Interest, as defined in 7 CFR 4284.902, except as provided for in the limited exceptions found at 7 CFR 4284.923.

Majority controlled producer-based business. The aggregate amount of awards to majority controlled producer-based businesses for FY 2011 shall not exceed 10 percent of the total funds obligated for the program during the fiscal year.

Reserved funds. For FY 2011, 10 percent of total funding available will be used to fund projects that benefit beginning farmers or ranchers, or socially-disadvantaged farmers or ranchers. In addition, 10 percent of total funding available will also be used to fund projects that propose development of mid-tier value chains.

Disposition of Reserved funds not obligated. Any FY 2011 Reserved funds that have not been obligated by June 30, 2011, shall be available to the Secretary to make VAPG grants, subject to this notice, to eligible entities, as determined by the Secretary. For FY 2011, the Secretary has determined that for reserved funds not obligated by June 30, 2011, reservation of funds for categories addressed at 7 CFR 4284.922 (c) will continue.

Use of grant and matching funds. Grant and matching funds may be used for the eligible uses specified in 7 CFR 4284.923 but may not be used for ineligible purposes, as provided in 7 CFR 4284.924.

G. Intergovernmental Review

If State or local governments raise objections to a proposed project under the intergovernmental review process that are not resolved within 90 days of the Agency's award announcement date, the Agency will rescind the award and will provide the applicant with a written notice to that effect. The Agency, in its sole discretion, may extend the 90-day period if it appears resolution is imminent.

V. Application Review, Award, and Administration Information

A. Preliminary Review

Applicants may submit drafts of their applications to their State Offices for a preliminary review no later than 30 days prior to the application deadline. The preliminary review is an informal assessment of the eligibility of the application and its completeness. The result of the preliminary review is not binding on the Agency.

B. Processing Applications

Applications will be reviewed and processed in accordance with 7 CFR 4284.940.

C. Application Ineligibility and Withdrawal

If the Agency determines that an application is ineligible at any time, the Agency will notify the applicant in writing of its determination and any review or appeal rights. If, during the period between the submission of an application and the execution of award documents, the project is no longer viable or the applicant no longer is requesting financial assistance for the project, the applicant must notify the Agency in writing. Upon receipt of such notification, the Agency will rescind the selection or withdraw the application, as applicable.

D. Application Scoring

The Agency will score applications according to the procedures and criteria specified in 7 CFR 4284.942, and as specified below.

For each criterion, applicants must demonstrate how the project has merit, and provide rationale for the likelihood of project success. Responses that do not address all aspects of the criterion, or that do not comprehensively convey pertinent project information will receive lower scores. The maximum number of points that will be awarded to an application is 100. Any application receiving less than 45 points will not be funded. The Agency application package will provide additional instruction to assist applicants when responding to the criteria below.

1. Nature of the Proposed Venture (graduated score 0-30 points). Working capital applicants should demonstrate the technological feasibility of the project, as well as the operational efficiency, profitability, and overall economic sustainability resulting from the project. Planning grant applicants should address this criterion by describing the expected outcomes as indicated above, and the rationale supporting those expectations. Applicants should reference third-party information that specifically supports the value-added project; discuss the value-added process proposed, potential markets and distribution channels; value to be added to the raw commodity through the value-added process; potential increase in customer base and increased revenue returning to producers; cost and availability of inputs, experience of the applicant in marketing the proposed or similar product; and any other relevant information that supports the viability of the project. Points will be awarded as follows.

i. 0 points will be awarded if the application does not substantively address this criterion.

ii. 10 points will be awarded if the applicant demonstrates weakness in addressing this criterion.

iii. 20 points will be awarded if the applicant partially addresses this criterion.

iv. 30 points will be awarded if the applicant clearly articulates the rationale for the project and demonstrates a high likelihood of success based on technological feasibility and economic sustainability.

2. Qualifications of Project Personnel (graduated score 0-20 points). Applicants should identify and describe the qualifications of individuals responsible for leading or managing the total project, as well as those individuals responsible for actually conducting the individual tasks in the work plan. Applications should discuss the credentials, education, capabilities, experience, availability and commitment of project personnel. If staff or consultants have not been selected at the time of application, provide specific descriptions of the qualifications required for the positions to be filled. Points will be awarded as follows:

i. 0 points will be awarded if this criterion is not substantively addressed;

ii. 10 points will be awarded if at least one of the identified staff or consultants demonstrates 5 or more years of relevant experience; or, if no project personnel have been identified but necessary qualifications for the positions to be filled are clearly described;

iii. 20 points will be awarded if all of the identified staff demonstrates relevant qualifications and experience.

3. Commitments and Support (graduated score 0-10 points). Applications must demonstrate the project has strong direct financial, technical and logistical support from agricultural producers, end-users, and other third party contributors necessary to successfully complete the project. Producer commitment may be demonstrated by describing cash or in-kind contributions to the project. End-user commitments include contracts or letters of intent or interest in purchasing the value-added product. Third-party commitments may include evidence of critical partnerships, logistical, or technical support necessary for the project to succeed. Points will be awarded as follows:

i. 0 points will be awarded if the applicant does not demonstrate tangible, relevant commitments or support from producers, end-users or other critical third party contributors.

ii. 5 points will be awarded if the applicant partially demonstrates tangible, high quality direct support or commitments from at least one producer, end users, or other third party contributor.

iii. 10 points will be awarded if the applicant demonstrates tangible, high quality direct support or commitments from multiple producers, end-users and critical third-party contributors.

4. Work Plan and Budget (graduated score 0-20 points). In accord with 7 CFR 4284.922(b)(5), applicants must submit a comprehensive work plan and budget. The work plan must provide specific and detailed narrative descriptions of the tasks and the key project personnel that will accomplish the project's goals. The budget must present a detailed breakdown of all estimated costs associated with the activities and allocate those costs among the listed tasks. The source and use of both grant and matching funds must be specified for all tasks. An eligible start and end date for the project itself and for individual project tasks must be clearly indicated and may not exceed Agency specified timeframes for the grant period.

i. 0 points will be awarded if the applicant does not substantively address this criterion.

ii. 10 points will be awarded if the applicant partially addresses this criterion.

iii. 20 points will be awarded if the applicant provides a detailed, comprehensive work plan and budget.

5. Priority Points (lump sum score 0 or 10 points). Priority points may be awarded in both the General Funds competition, as well as the Reserved Funds competitions. Qualifying applicants may request priority points if they meet the requirements for one of the following categories and provide the documentation specified in 7 CFR 4284.922(d), as applicable. Priority categories include: Beginning Farmer or Rancher, Socially Disadvantaged Farmer or Rancher, Operator of a Small or Medium-sized farm or ranch that is structured as a Family Farm, Mid Tier Value Chain proposals, and Farmer or Rancher Cooperative. It is recommended that applicants utilize the Agency application package when documenting for priority points and refer to the documentation requirements specified in 7 CFR 4284.922(d). It is the Agency's position that harvester operations do not meet the definition requirements for a Farm or Ranch and are not eligible to receive Priority Points for a Beginning Farmer or Rancher, a Socially Disadvantaged Farmer or Rancher, an Operator of a small- or medium-sized farm or ranch that is structured as a Family Farm, or a Farmer or Rancher Cooperative. Harvesters may request Priority Points for a Mid-Tier Value Chain project, as applicable. All qualifying applicants in this category will receive 10 points. Applicants that do not provide sufficient documentation will receive 0 points.

6. Administrator Priority Categories (graduated score 0-10 points). The Administrator of USDA Rural Development Business and Cooperative Programs has discretion to award up to 10 points to an application to improve the geographic diversity of awardees in a fiscal year.

E. Selection of Applications

The Agency will select applications for award under this Notice in accordance with the provisions specified in 7 CFR 4284.950(a).

The Agency will conduct an initial screening of all applications for eligibility and to determine whether the application is complete and sufficiently responsive to the requirements set forth in this notice to allow for an informed review.

All eligible and complete proposals will be evaluated by two reviewers based on criteria specified in Section V.D. One of these reviewers will be a Rural Development employee from the servicing State Office and the other reviewer will be a non-Federal individual. The State Office may enlist the support of technical experts qualified as described below and approved by the State Director, to assist the State Office scoring process. All reviewers must meet the following qualifications. Reviewers must have obtained at least a bachelors degree in one or more of the following fields: agri-business, business, economics, finance, or marketing. They must also have a minimum of three years of experience in an agriculture-related field (e.g. farming, marketing, consulting, university professor, research, officer for trade association, government employee for an agricultural program). If the reviewer does not have a degree in one of those fields, he/she must possess at least five years of working experience in an agriculture-related field.

Both reviewers will score criteria one through four and the totals for each reviewer will be added together and averaged. The Rural Development Reviewer will also assign priority points based on criterion 5 in Section V.D. These will be added to the average score. The sum of these scores will be ranked high to low and this will comprise the initial ranking.

The Administrator of RBS may, at their discretion, award up to 10 Administrator priority points based on criterion 6 in Section V.D. These points will be added to the cumulative score for a total possible score of 100. A minimum score of 45 points is required for funding.

A final ranking will be obtained based solely on the scores received for criteria 1 through 6 in Section V.D. Applications for reserved funding will be funded in rank order until funds are depleted. Unfunded reserve category applications will be returned to the general fund category where applications will be funded in rank order until the funds are depleted or until the minimum required score has been surpassed. Funding for Majority Controlled Producer-Based Business Ventures (MAJ) is limited to 10 percent of total grant funds obligated. MAJ applications will be funded in rank order until the funding limitation has been reached. Grants to MAJ applicants from reserved funds will count against the funding limitation.

An application that is ranked under this Notice, but is not funded, will not be carried forward into FY 2012. The Agency will notify the applicants of all such applications in writing. Despite the Agency not carrying applications forward in FY 2012, the applicant is permitted to submit the same application, updated for FY 2012, for consideration.

F. Obligation and Awarding of Funds

The Agency will obligate and award funds in accordance with the procedures and requirements specified in 7 CFR 4284.951.

VI. Administrative Information

A. Administrative and National Policy Requirements

1. Review or appeal rights. A person may seek a review of an Agency decision or appeal to the National Appeals Division in accordance with 7 CFR part 11 of this title as provided in 7 CFR 4284.903.

2. Compliance with other laws and regulations. The provisions of 7 CFR 4284.905 apply to this Notice, which includes requiring producers to be in compliance with other applicable Federal laws.

3. Monitoring and reporting program performance. The provisions of 7 CFR 4284.960 apply to this Notice.

4. Grant servicing. All grants awarded under this Notice shall be serviced in accordance with 7 CFR part 1951, subparts E and O as applicable, and the Departmental Regulations (7 CFR parts 3000-3099), with the exception that delegation of the post-award servicing of the program does not require the prior approval of the Administrator.

5. Transfer of obligations. Any transfer of funds obligated under this Notice from an applicant to a different applicant must comply with the requirements specified in 7 CFR 4284.962.

6. Grant close out and related activities. The provisions of 7 CFR 4284.963 apply to this Notice.

7. Exception authority. The provisions of 7 CFR 4284.904 apply to this Notice.

8. Departmental regulations. Unless specifically stated otherwise in this Notice or in 7 CFR part 4284, subpart J, this Notice incorporates by reference the regulations of the Department of Agriculture's Office of Chief Financial Officer (or successor office) as codified in 7 CFR parts 3000 through 3099, including, but not necessarily limited to, 7 CFR parts 3015 through 3019, 7 CFR part 3021, 2 CFR parts 25, 170 and 417, and 7 CFR part 3052; and successor regulations to these parts.

9. Cost principles. This Notice incorporates by reference the cost principles found in 2 CFR part 230 and in 48 CFR 31.2.

B. Environmental Review

All recipients under this Notice are subject to the requirements of 7 CFR part 1940, subpart G and any successor regulation. However, 7 CFR 1940.333 generally excludes applications for planning grants. Applicants for working capital grants must submit Form RD 1940-20, “Request for Environmental Information,” as part of this application.

VII. Agency Contacts

For general questions about this announcement and for program technical assistance, applicants should contact their USDA Rural Development State Office at http://www.rurdev.usda.gov/recd_map.html. The State Office can also be reached by calling 800-670-6553 and pressing “1.” If an applicant is unable to contact their State Office, a nearby State Office may be contacted or the RBS National Office can be reached by calling Lyn Millhiser at (202) 720-1227 or Tracey Kennedy at 202-690-1428, or via e-mail: cpgrants@wdc.usda.gov. Applicants are also encouraged to visit the application Web site for application tools, including an application guide and templates. The Web address is: http://www.rurdev.usda.gov/BCP_VAPG_Grants.html.

VIII. Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Adjudication and Compliance, 1400 Independence Avenue SW., Washington, DC 20250-9410 or call (800) 795-3272 (voice) or (202) 720-6382 (TDD). USDA is an equal opportunity provider, employer, and lender.

Dated: June 21, 2011.
Judith A. Canales,
Administrator, Rural Business—Cooperative Service.

[FR Doc. 2011-16121 Filed 6-27-11; 8:45 am]

BILLING CODE 3410-XY-P